DEPARTMENT OF TRANSPORTATION

Federal Highway Administration

Notice of Final Federal Agency Actions on Proposed Transportation Project in California

AGENCY: Federal Highway Administration (FHWA), DOT.

ACTION: Notice of limitation on claims for judicial review.

SUMMARY: The FHWA, on behalf of the California Department of Transportation (Caltrans), is issuing this notice to announce actions taken by Caltrans that are final agency actions. These actions relate to the proposed multi-asset pavement preservation project in Ventura County on State Route 33 from 0.6-miles south of Parkview Drive (postmile 6.3) to 0.1-miles north of Foothill Trail (postmile 13.49) in Casitas Springs in Ojai within Ventura County.

DATES: By this notice, the FHWA, on behalf of Caltrans, is advising the public of final agency actions subject to 23 U.S.C. 139(l)(1). A claim seeking judicial review of the Federal Agency actions on the listed highway project will be barred unless the claim is filed on or before June 29, 2026. If the Federal law that authorizes judicial review of a claim provides a time period of less than 150 days for filing such claim, then that shorter time period still applies.

ADDRESSES: The Environmental Assessment (EA) with Finding of No Significant Impact (FONSI) and additional project documents can be viewed and downloaded from CEQA net at: https://ceqanet.lci.ca.gov/2025060606/3 or by contacting Caltrans District 7 Environmental, 100 S Main Street, MS16A, Los Angeles, CA 90012, during normal business hours from 8 a.m. to 5 p.m. (Pacific Time), Monday through Friday, except State holidays.

FOR FURTHER INFORMATION CONTACT: Susan Koo, Senior Environmental Scientist, (213) 269-1106, Susan.Tse@dot.ca.gov.

SUPPLEMENTARY INFORMATION: Effective July 1, 2007, and as subsequently renewed on May 27, 2022, the FHWA assigned, and Caltrans assumed, environmental responsibilities for this project pursuant to 23 U.S.C. 327. Notice is hereby given that Caltrans has taken final agency actions subject to 23 U.S.C. 139(l)(1) by issuing licenses, permits, or approvals for the proposed improvement highway project. The actions by Caltrans and other Federal agencies on the project, and the laws under which such actions were taken are described in the EA/FONSI approved on October 16, 2025, and in other project records for the listed project. The EA/FONSI and other documents for the listed project are available by contacting Caltrans at the address provided above.

The project subject to this notice is:

Project Location: The project limits include on State Route 33 from 0.6-miles south of Parkview Drive (postmile 6.3) to 0.1-miles north of Foothill Trail (postmile 13.49) in Casitas Springs in Ojai within Ventura County.

Project Actions: This notice applies to the EA/FONSI and all other Federal agency licenses, permits, or approvals for the listed project as of the issuance date of this notice including but not limited to the Section 4(f) Resource Programmatic Approval and all laws under which such actions were taken, including but not limited to:

1. General: National Environmental Policy Act (NEPA) [42 U.S.C. 4321 et seq.]; Federal-Aid Highway Act (FAHA) [23 U.S.C. 109 and 23 U.S.C. 128]; 23 CFR part 771.

2. Air: Clean Air Act (CAA) [42 U.S.C. 7401-7671(q)], with the exception of project level conformity determinations [42 U.S.C. 7506].

6. Historic and Cultural Resources: Section 106 of the National Historic Preservation Act of 1966, as amended [54 U.S.C. 3006101 et seq.]; Archaeological Resources Protection Act of 1979 (ARPA) [16 U.S.C. 470(aa)-470(II)]; Preservation of Historical and Archaeological Data [54 U.S.C. 312501-312508].

9. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

10. Executive Orders: E.O. 11988 Floodplain Management; E.O. 11593 Protection and Enhancement of Cultural Resources; E.O. 13287 Preserve America; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

(Authority: 23 U.S.C. 139(l)(1)).

Antonio Johnson,
Director of Planning, Environmental and Right of Way, Federal Highway Administration, California Division.

[FR Doc. 2026-01681 Filed 1-27-26; 8:45 am]

BILLING CODE 4910-RY-P